GENERAL SERVICES ADMINISTRATION

Office of the Chief Acquisition Officer; Industry Day to Provide Information to Vendors on FAI/DAU Training Plans and Requirements

AGENCY: Office of the Chief Acquisition Officer, GSA.

ACTION: Notice of Industry Day.

SUMMARY: The Federal Acquisition Institute (FAI) intends to hold an Industry Day for interested vendors to provide information related to FAI's initiatives and activities under the Acquisition Workforce Training Fund (AWTF). FAI will describe our plans and requirements for training related services. DAU will present information on recent contracting curriculum changes.

DATES: Industry Day is scheduled for October 13, 2004, from 10:00 a.m. to 12:00 noon at the following location: SRA's Fair Lakes North-C Presentation Center, 4350 Fair Lakes Court (Receptionist, 2nd Floor), Fairfax, Virginia 22033.

Interested parties may register by e-mail at Jamie.ready@gsa.gov, or telephone (202) 219-3454.

FOR FURTHER INFORMATION CONTACT: Ms. Jamie Ready, Federal Acquisition Institute, General Services Administration, via telephone at (202) 703-219-3454; e-mail at Jamie.ready@gsa.gov; or fax at (202) 501-3341.

SUPPLEMENTARY INFORMATION: FAI works in partnership with the Defense Acquisition University (DAU). DAU provides mandatory, assignment-specific, and continuing education courses for military and civilian acquisition personnel within the Department of Defense. As part of Industry Day, DAU will present information on recent contracting curriculum changes.

Who should attend? Training developers, vendors with Commercial-Off-The-Shelf (COTS) training products, and vendors with capabilities related to the full instructional system design (ISD) methodologies, and acquisition experts.

FAI's mission is to foster and promote the development of a professional acquisition workforce into effective business leaders. Section 1412 of the National Defense Authorization Act for Fiscal Year 2004 (H.R. 1588) authorized an Acquisition Workforce Training Fund (AWTF) “to ensure that the Federal acquisition workforce adapts to fundamental changes in the nature of Federal Government acquisition of property and services associated with the changing roles of the Federal Government; and acquires new skills and a new perspective to enable it to contribute effectively in the changing environment of the 21st century.” FAI will use the fund to develop training resources needed to enable federal acquisition professionals to transition to a service oriented and technology driven federal market.

FAI coordinates with the Office of Federal Procurement Policy (OFPP), the FAI Board of Directors and the Chief Acquisition Officers (CAO) Council, and DAU to identify training needs and set priorities for use of the fund. OFPP provides guidance on Administration initiatives and new issues in acquisition.

Dated: September 29, 2004
Gloria Sochon,
Program Manager, Federal Acquisition Institute, Office of the Chief Information Officer

[FR Doc. 04-22242 Filed 10-1-04; 8:45 am]

BILLING CODE 6820-EP-S